ENVIRONMENTAL PROTECTION AGENCY

40 CFR Part 52

[R04-0AR-2005-TN-0006-200519(b); FRL-7990-4]

Approval and Promulgation of Implementation Plans; Tennessee: Nashville Area Second 10-Year Maintenance Plan for the 1-Hour Ozone National Ambient Air Quality Standard

AGENCY: Environmental Protection Agency (EPA).

ACTION: Proposed rule.

SUMMARY: The EPA is proposing to approve a revision to the Tennessee State Implementation Plan (SIP) submitted in final form on August 10, 2005. The SIP revision provides the second 10-year maintenance plan for the Nashville (Middle Tennessee) 1-hour ozone maintenance area (Nashville Area, which is composed of the following five counties: Davidson, Rutherford, Sumner, Williamson, and Wilson. The Nashville Area is still required to fulfill obligations under the 1-hour ozone national ambient air quality standard (NAAQS), because EPA has deferred the effective date of the designation for the Nashville Area under the newer 8-hour ozone NAAQS due to participation in an Early Action Compact. EPA is proposing to approve this SIP revision because it satisfies the requirement of the Clean Air Act for the second 10-year maintenance plan for the Nashville Area.

In addition, in this rulemaking, EPA is providing information on its transportation conformity adequacy determination for new motor vehicle emission budgets (MVEBs) for the year 2016 that are contained in the second 10-year 1-hour ozone maintenance plan for the Nashville Area. EPA determined that the 2016 MVEBs are adequate in a previous action. EPA is also proposing to approve the 2016 MVEBs in this action.

In the Final Rules section of this Federal Register, EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before December 1, 2005.

ADDRESSES: Comments may be submitted by mail to: Anne Marie Hoffman Regulatory Development Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, ADDRESSES section which is published in the Rules section of this Federal Register.

FOR FURTHER INFORMATION CONTACT: Anne Marie Hoffman, Regulatory Development Section, Air Planning Branch, Air, Pesticides and Toxics Management Division, U.S. Environmental Protection Agency, Region 4, 61 Forsyth Street, SW., Atlanta, Georgia 30303-8960. The telephone number is (404) 562-9074. Ms. Hoffman can also be reached via electronic mail at hoffman.annemarie@epa@epa.gov.

SUPPLEMENTARY INFORMATION: For additional information see the direct final rule which is published in the Rules section of this Federal Register.

Dated: October 17, 2005.
A. Stanley Meiburg,
Acting Regional Administrator, Region 4.

[FR Doc. 05-21529 Filed 10-31-05; 8:45 am]

BILLING CODE 6560-50-P